DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Administrator of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Administrator, Office of Trade Adjustment Assistance, at the address shown below, no later than August 29, 2019.

Interested persons are invited to submit written comments regarding the subject matter of the investigations to the Administrator, Office of Trade Adjustment Assistance, at the address shown below, not later than August 29, 2019.

The petitions filed in this case are available for inspection at the Office of the Administrator, Office of Trade Adjustment Assistance, Employment and Training Administration, U.S. Department of Labor, Room N-5428, 200 Constitution Avenue NW, Washington, DC 20210.

Signed at Washington, DC, this 22nd day of July 2019.
Hope D. Kinglock,
Certifying Officer, Office of Trade Adjustment Assistance.

Appendix

90 TAA Petitions Instituted Between 6/1/19 and 6/30/19
TA-W | Subject firm (petitioners) | Location | Date of institution | Date of petition
94865 | Klockner Pentaplast (State/One-Stop) | Gordonsville, VA | 06/03/19 | 05/29/19
94866 | SwimWays Corporation RE-SENT (State/One-Stop) | Virginia Beach, VA | 06/03/19 | 05/31/19
94867 | Qualcomm Technologies, Inc. (State/One-Stop) | San Diego, CA | 06/04/19 | 06/03/19
94868 | SAP America (State/One-Stop) | Burlington, MA | 06/04/19 | 06/04/19
94869 | State Street Corporation (State/One-Stop) | Jacksonville, FL | 06/04/19 | 06/03/19
94870 | Timken Belts (State/One-Stop) | Springfield, MO | 06/04/19 | 06/03/19
94871 | Blue Cross and Blue Shield (State/One-Stop) | Eagan, MN | 06/05/19 | 06/04/19
94872 | Kern-Liebers Texas, Inc. (Workers) | Pharr, TX | 06/05/19 | 06/04/19
94873 | Ossur Engineering (State/One-Stop) | Albion, MI | 06/05/19 | 06/04/19
94874 | Adjacent Solutions (State/One-Stop) | Littleton, CO | 06/06/19 | 06/05/19
94875 | Celestica LLC (Workers) | San Jose, CA | 06/06/19 | 06/05/19
94876 | General Motors Global Propulsion Systems (State/One-Stop) | Pontiac, MI | 06/06/19 | 06/05/19
94877 | IBM (State/One-Stop) | Dallas, TX | 06/06/19 | 06/05/19
94878 | Kimberly-Clark Corporation (Union) | Fullerton, CA | 06/06/19 | 06/05/19
94879 | Kulicke & Soffa, Industries (Company) | Santa Ana, CA | 06/06/19 | 06/05/19
94880 | Nitto Automotive (State/One-Stop) | Kansas City, MO | 06/06/19 | 06/05/19
94881 | Stratus Video Language Company—Dallas Location (State/One-Stop) | Dallas, TX | 06/06/19 | 06/05/19
94882 | ATandT (Workers) | Bellaire, TX | 06/07/19 | 06/03/19
94883 | Gray & Company (State/One-Stop) | Dayton, OR | 06/07/19 | 06/05/19
94884 | TTM Technologies (Company) | Chippewa Falls, WI | 06/07/19 | 06/07/19
94885 | Ricoh (Richmond location) (State/One-Stop) | Richmond, VA | 06/10/19 | 06/07/19
94886 | Times Fiber Communications/Amphenol Broadband Solutions (State/One-Stop) | Chatham, VA | 06/10/19 | 06/07/19
94887 | Gear Design and Manufacturing/AAM Charleston (Company) | North Charleston, SC | 06/11/19 | 06/10/19
94888 | Gunderson LLC/The Greenbrier Companies (State/One-Stop) | Portland, OR | 06/11/19 | 06/10/19
94889 | Xerox Corporation (State/One-Stop) | Wilsonville, OR | 06/11/19 | 06/10/19
94890 | FCT US LLC (State/One-Stop) | Torrington, CT | 06/12/19 | 06/12/19
94891 | International Automotive Components (State/One-Stop) | Iowa City, IA | 06/12/19 | 06/11/19
94892 | Seagate Technologies (State/One-Stop) | Valencia, CA | 06/12/19 | 06/11/19
94893 | U.S Bank (State/One-Stop) | Irvine, CA | 06/12/19 | 06/11/19
94894 | NTT Data aka Dell aka Transaction Applications Group (State/One-Stop) | Lincoln, NE | 06/13/19 | 06/12/19
94895 | Vista Del Mar Medical Group Inc. (State/One-Stop) | Oxnard, CA | 06/13/19 | 06/12/19
94896 | AT&T (State/One-Stop) | Houston, TX | 06/14/19 | 06/13/19
94897 | Ditech Holding Corporation (State/One-Stop) | Rapid City, SD | 06/14/19 | 06/13/19
94898 | Legend 3D VR VFX (State/One-Stop) | Los Angeles, CA | 06/14/19 | 06/13/19
94899 | Les Lunes (State/One-Stop) | Healdsburg, CA | 06/14/19 | 06/11/19
94900 | Nuance Communications, Inc. (State/One-Stop) | Agoura Hills, CA | 06/14/19 | 06/13/19
94901 | Parker Hannifin (State/One-Stop) | Kennett, MO | 06/14/19 | 06/13/19
94902 | Symantec (State/One-Stop) | Mountain View, CA | 06/14/19 | 05/23/19
94903 | Tahari ASL, LLC (State/One-Stop) | Millburn, NJ | 06/14/19 | 10/30/18
94904 | AARCO at Ikea Industry Danville (State/One-Stop) | Ringgold, VA | 06/17/19 | 06/14/19
94905 | Cameron (a Schlumberger Company) (Company) | Duncan, OK | 06/17/19 | 06/14/19
94906 | General Motors Milford Proving Ground (Workers) | Milford, MI | 06/17/19 | 06/16/19
94907 | Liberty Mutual Group Inc. (State/One-Stop) | Springfield, MA | 06/17/19 | 06/14/19
94908 | SmartFocus US Inc. (State/One-Stop) | Bellevue, WA | 06/17/19 | 06/12/19
94909 | The Safariland Group (State/One-Stop) | Ontario, CA | 06/17/19 | 06/14/19
94910 | AEP Service Corporation (Workers) | Tulsa, OK | 06/18/19 | 06/17/19
94911 | Fidelity Information Services (State/One-Stop) | Woodbury, MN | 06/18/19 | 06/17/19
94912 | Halliburton Energy Services (State/One-Stop) | Duncan, OK | 06/18/19 | 06/17/19
94913 | RR Donnelley (State/One-Stop) | Wichita, KS | 06/18/19 | 06/17/19
94914 | BrassCraft Manufacturing Co. (State/One-Stop) | Swedesboro, NJ | 06/19/19 | 06/18/19
94915 | Kelly Services (onsite at Dow Chemical) (Workers) | Midland, MI | 06/19/19 | 06/18/19
94916 | United Healthcare (State/One-Stop) | Minnetonka, MN | 06/19/19 | 06/18/19
94917 | Johnny Appleseed, Inc. Div. of Blue Strem Brands (State/One-Stop) | Middleton, MA | 06/20/19 | 06/19/19
94918 | Commemorative Brands, Inc. (Company) | Austin, TX | 06/21/19 | 06/20/19
94919 | Flexsteel Industries (State/One-Stop) | Riverside, CA | 06/21/19 | 06/20/19
94920 | Molina Healthcare (State/One-Stop) | Glen Allen, VA | 06/21/19 | 06/18/19
94921 | North American Mold Technology (State/One-Stop) | Danville, VA | 06/21/19 | 06/20/19
94922 | Oak Valley Robbinsville (Workers) | Robbinsville, NC | 06/21/19 | 06/20/19
94923 | Theis Precision Steel LLC (State/One-Stop) | Bristol, CT | 06/21/19 | 06/20/19
94924 | WestRock (State/One-Stop) | Amsterdam, NY | 06/21/19 | 06/20/19
94925 | AEP Service Corporation (Workers) | Tulsa, OK | 06/24/19 | 06/23/19
94926 | Beyondsoft Corporation (HP Printer) (State/One-Stop) | Vancouver, WA | 06/24/19 | 06/20/19
94927 | CCPI Inc. (State/One-Stop) | Blanchester, OH | 06/24/19 | 06/21/19
94928 | Intel Corporation (Workers) | Eau Claire, WI | 06/24/19 | 06/21/19
94929 | Muzak LLC d.b.a. Mood Media (Workers) | Austin, TX | 06/24/19 | 06/21/19
94930 | Trouw Nutrition USA (State/One-Stop) | Willmar, MN | 06/24/19 | 06/21/19
94931 | Artech (State/One-Stop) | Morristown, NJ | 06/25/19 | 01/18/19
94932 | DunAn Precision Manufacturing Inc. (State/One-Stop) | Memphis, TN | 06/25/19 | 06/24/19
94933 | Jernberg Industries (State/One-Stop) | Chicago, IL | 06/25/19 | 06/24/19
94934 | Kimberly-Clark Corporation (State/One-Stop) | Conway, AR | 06/25/19 | 06/24/19
94935 | Providence St. Joseph Health (State/One-Stop) | Portland, OR | 06/25/19 | 06/24/19
94936 | R1 Revenue Cycle Management (State/One-Stop) | Austin, TX | 06/25/19 | 06/24/19
94937 | Tech Mahindra Americas Inc. for AT&T (State/One-Stop) | Plano, TX | 06/25/19 | 06/24/19
94938 | The Invivo Corporation (State/One-Stop) | Gainesville, FL | 06/26/19 | 06/25/19
94939 | Bulk Handling Systems (State/One-Stop) | Eugene, OR | 06/26/19 | 06/25/19
94940 | Georgia-Pacific (State/One-Stop) | Crossett, AR | 06/26/19 | 06/25/19
94941 | Delta Air Lines Inc. (State/One-Stop) | Atlanta, GA | 06/26/19 | 06/25/19
94942 | Cisco Systems Inc. (State/One-Stop) | San Jose, CA | 06/26/19 | 06/25/19
94943 | Stimson Lumber (State/One-Stop) | Gaston, OR | 06/26/19 | 06/25/19
94944 | AIG (Workers) | New York, NY | 06/26/19 | 06/25/19
94945 | Arconic Mill Products (State/One-Stop) | Lancaster, PA | 06/27/19 | 06/26/19
94946 | AT&T Services, Inc. (State/One-Stop) | St. Louis, MO | 06/27/19 | 06/26/19
94947 | Conair Corporation (Company) | Glendale, AZ | 06/27/19 | 06/26/19
94948 | Falcon Transport Company (State/One-Stop) | La Vergne, TN | 06/27/19 | 06/26/19
94949 | Fuller Packaging, Inc. (State/One-Stop) | Central Falls, RI | 06/27/19 | 06/26/19
94950 | AT&T Voice (State/One-Stop) | Piscataway, NJ | 06/28/19 | 06/27/19
94951 | Bank of New York Mellon (State/One-Stop) | Pittsburgh, PA | 06/28/19 | 06/27/19
94952 | PepsiCo (Frito-Lay North America Inc.) (State/One-Stop) | Dallas, TX | 06/28/19 | 06/27/19
94953 | Precision Wood Manufacturing (State/One-Stop) | Bay City, OR | 06/28/19 | 06/27/19
94954 | Union Underwear dba Fruit of the Loom (Workers) | Bowling Green, KY | 06/28/19 | 06/27/19

[FR Doc. 2019-17701 Filed 8-16-19; 8:45 am]

BILLING CODE 4510-FN-P